DEPARTMENT OF DEFENSE

Department of the Navy

Notice of Availability of Government-Owned Inventions; Available for Licensing

AGENCY: Department of the Navy, DoD.

ACTION: Notice.

SUMMARY: The Department of the Navy hereby gives notice of the general availability of exclusive or partially exclusive licenses under the following pending patents. Any license granted shall comply with 35 U.S.C. 209 and 37 CFR part 404. Applications will be evaluated utilizing the following criteria: (1) Ability to manufacture and market the technology; (2) manufacturing and marketing ability; (3) time required to bring technology to market and production rate; (4) royalties; (5) technical capabilities; and (6) small business status. The following patent applications are available for licensing: U.S. Patent Application Serial No. 10/143,176: NON-CHROMATE CONVERSION COATINGS; filed on 7 May 2002 and U.S. Patent Application Serial No. 10/143,173: NON-CHROMATE METAL SURFACE ETCHING SOLUTIONS; filed on 7 May 2002.

DATES: Applications for license may be submitted at any time from the date of this notice.

FOR FURTHER INFORMATION CONTACT: Dr. Theresa A. Baus, Office of Technology Transfer, Naval Undersea Warfare Center, 1176 Howell St., Newport, RI 02841, telephone (401) 832-8728 or e-mail at bausta@npt.nuwc.navy.mil.

(Authority: 35 U.S.C. 207, 37 CFR part 404)

Dated: September 6, 2002.
R. E. Vincent II,
Lieutenant Commander, Judge Advocate General's Corps, U.S. Navy, Federal Register Liaison Officer.

[FR Doc. 02-23665 Filed 9-17-02; 8:45 am]

BILLING CODE 3810-FF-P